NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Andrew Titmus, ACA Permit Officer, Office of Polar Programs, National Science Foundation, 2415 Eisenhower Avenue, Alexandria, VA 22314; 603-292-4479; email: ACApermits@nsf.gov.

SUPPLEMENTARY INFORMATION:

On July 05, 2024, the National Science Foundation published a notice in the Federal Register of permit applications received. The permits were issued on the following dates:

1. Heather Liwanag, Permit No. 2025-004, August 15, 2024

2. Zheng Wang, Permit No. 2025-005, August 16, 2024

3. Paul Ponganis, Permit No. 2025-006, August 16, 2024

On July 26, 2024, the National Science Foundation published a notice in the Federal Register of permit applications received. The permits were issued on the following dates:

1. Ethan Norris, ASC, Permit No. 2025-008, September 26, 2024

2. Jason Flesher, SCENIC, Permit No. 2025-007, September 25, 2024

On August 5, 2024, the National Science Foundation published a notice in the Federal Register of permit applications received. The permits were issued on the following dates:

1. Chris Linder, Permit No. 2025-009, September 26, 2024

2. Dan Costa, Permit No. 2025-010, September 27, 2024

On September 12, 2024, the National Science Foundation published a notice in the Federal Register of permit applications received. The permits were issued on the following dates:

1. Robin West, Seabourn, Permit No. 2025-011, October 25, 2024

2. Heather Lynch, Permit No. 2025-013, November 22, 2024

3. Heather Lynch, Permit No. 2025-012, November 11, 2024

On September 30, 2024, the National Science Foundation published a notice in the Federal Register of permit applications received. The permits were issued on the following dates:

1. Dale Andersen, Permit No. 2025-014, November 27, 2024

On October 31, 2024, the National Science Foundation published a notice in the Federal Register of permit applications received. The permits were issued on the following dates:

1. Ari Friedlaender, Permit No. 2025-019, December 1, 2024

2. Ari Friedlaender, Permit No. 2025-020, December 1, 2024

3. Sujatha Bagal, NGS, Permit No. 2025-021, December 9, 2024

Alina Pavao,
Administrative Assistant, Office of Polar Programs.

[FR Doc. 2024-29649 Filed 12-16-24; 8:45 am]

BILLING CODE 7555-01-P